DEPARTMENT OF ENERGY

Federal Energy Regulatory Commission

[Docket No. EL05-109-000]

Tax Deduction for Manufacturing Activities Under the American Jobs Creation Act of 2004; Errata Notice

July 6, 2005.

On June 2, 2005, the Commission issued a Guidance Order ¹ on the Tax Deduction for Manufacturing Activities under the American Jobs Creation Act of 2004.²

¹ 111 FERC ¶ 61,351 (2005) (June 2 Order).

² Pub. L. 108-357, 118 Stat. 1418 (2004) (adding additional section 199 to the Internal Revenue Code, 26 U.S.C. 1 et seq. (2000)).

The last sentence of paragraph number 2 is revised as follows: (1) The phrase “equivalent of reducing” is replaced by the phrase “9 percent of qualified production activity income and could reduce,” and (2) the phrase “from 35 percent to 32 percent” is eliminated.

By direction of the Commission.
Magalie R. Salas,
Secretary.

[FR Doc. E5-3696 Filed 7-12-05; 8:45 am]

BILLING CODE 6717-01-P